DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 29, 2009. Address written comments to Statutory Import Programs Staff, Room 3720, U.S. Department of Commerce, Washington, D.C. 20230. Applications may be examined between 8:30 A.M. and 5:00 P.M. at the U.S. Department of Commerce in Room 3720.

Docket Number: 09-038. Applicant: University of Texas at Austin, 10100 Burnet Rd., Bldg. 131, Austin, TX 78758. Instrument: Electron Microscope. Manufacturer: FEI Company, Czech Republic. Intended Use: The instrument will be used for high resolution cathodoluminescence imaging of quartz and carbonate cements in sandstones and carbonate rocks. The instrument will allow the highest spatial imaging resolutions with X-ray spectroscopy and CL. Justification for Duty-Free Entry: No instruments of same general category are manufactured in the United States. Application accepted by Commissioner of Customs: June 17, 2009.

Docket Number: 09-039. Applicant: National Institutes of Health, 903 S. 4th St., Hamilton, MT 59840. Instrument: Electron Microscope. Manufacturer: FEI Company, Czech Republic. Intended Use: The instrument will be used to study protein complexes on viral surfaces, internal core structures, viral docking sites on host cells or tissues, 3-dimentional structures of intact viruses and high-containment bacteria, intracellular relationships between viruses and bacteria as they enter, replicate and exit cells. Justification for Duty-Free Entry: No instruments of same general category are manufactured in the United States. Application accepted by Commissioner of Customs: June 17, 2009.

Docket Number: 09-040. Applicant: Stanford University, 450 Serra mall, Stanford, CA 94305. Instrument: Electron Microscope. Manufacturer: FEI Company, the Netherlands. Intended Use: The instrument will be used to study the nanostructure of materials. Justification for Duty-Free Entry: No instruments of same general category are manufactured in the United States. Application accepted by Commissioner of Customs: June 18, 2009.

Dated: July 1, 2009.
Christopher Cassel,
Acting Director, IA Subsidies Enforcement Office.

[FR Doc. E9-16286 Filed 7-8-09; 8:45 am]

BILLING CODE 3510-DS-S